DEPARTMENT OF TRANSPORTATION

National Highway Traffic Safety Administration

[U.S. DOT Docket Number NHTSA-2016-0027]

Reports, Forms, and Record Keeping Requirements

AGENCY: National Highway Traffic Safety Administration (NHTSA), Department of Transportation.

ACTION: Request for public comment on an extension of a currently approved collection of information.

SUMMARY: Before a Federal agency can collect certain information from the public, it must receive approval from the Office of Management and Budget (OMB). Under procedures established by the Paperwork Reduction Act of 1995, before seeking OMB approval, Federal agencies must solicit public comment on proposed collections of information, including extension and reinstatement of previously approved collections.

This document describes one collection of information for which NHTSA intends to seek OMB approval concerning vehicle safety features for consumer information purposes (OMB Control number 2127-0629).

DATES: Comments must be received on or before May 16, 2016.

ADDRESSES: You may submit comments to the docket number identified in the heading of this document by any of the following methods:

• Federal eRulemaking Portal: Go to http://www.regulations.gov. Follow the online instructions for submitting comments.

• Mail: Docket Management Facility, M-30, U.S. Department of Transportation, West Building, Ground Floor, Rm. W12-140, 1200 New Jersey Avenue SE., Washington, DC 20590.

• Hand Delivery or Courier: West Building Ground Floor, Room W12-140, 1200 New Jersey Avenue SE., between 9 a.m. and 5 p.m. Eastern Time, Monday through Friday, except Federal holidays.

• Fax: (202) 493-2251.

You may call the Docket Management Facility at 202-366-9826.

Instructions: For detailed instructions on submitting comments, see the Public Participation heading of the Supplementary Information section of this document. Note that all comments received will be posted without change to http://www.regulations.gov, including any personal information provided.

FOR FURTHER INFORMATION CONTACT: Complete copies of each request for collection of information may be obtained at no charge from Johanna Lowrie, U.S. Department of Transportation, NHTSA, Room W43-410, 1200 New Jersey Ave SE., Washington, DC 20590. Ms. Lowrie's telephone number is (202) 366-5269. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation at 5 CFR 1320.8(d), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology (e.g. in submission of responses).

In compliance with these requirements, NHTSA asks for public comment on the following proposed collection of information:

Title: Vehicle Information for the General Public.

OMB Control Number: 2127-0629.

Affected Public: Manufacturers that sell motor vehicles that have a Gross Vehicle Weight Rating (GVWR) of 10,000 pounds or less in the United States.

Abstract: NHTSA's mission is to save lives, prevent injury, and reduce motor vehicle crashes. Consumer information programs are an important tool for improving vehicle safety through market forces. For over 30 years, under its New Car Assessment Program, NHTSA has been providing consumers with vehicle safety information such as frontal and side crash results, crash avoidance performance test results, rollover propensity, and the availability of a wide array of safety features provided on each vehicle model. In addition, the agency has been using this safety feature information when responding to consumer inquiries and analyzing rulemaking petitions that requested the agency to mandate certain safety features.

The information collected annually by the agency includes the following:

• Vehicle make, model, body style, certification type, projected sales volume, availability date, etc.,

• Crashworthiness features (i.e., adjustable upper belt anchorages, seat belt pretensioners, load limiters, etc.),

• Crash avoidance features (i.e., lane departure warning, forward collision warning, blind spot detection, crash imminent braking, dynamic brake support systems, etc.),

• Automatic crash notification systems,

• Event data recorders,

• Automatic door locks (ADL),

• Anti-theft devices,

• Static Stability Factor (SSF) rating information,

• Lower Anchors and Tethers for Children (LATCH) restraint system, and

• Side air bag information that would include whether the side air bags meet the requirements from the Technical Working Group (TWG) on Out-of-Position occupants.

NHTSA has another information collection to obtain data related to motor vehicle compliance with the agency's Federal motor vehicle safety standards. Although the consumer information collection data is distinct and unique from the compliance data, respondents to both collections are the same. Thus, the consumer information collection is closely coordinated with the compliance collection to enable responders to assemble the data more efficiently. The burden is further made easier by sending out electronic files to the respondents in which the data is entered and electronically returned to the agency.

Estimated Annual Burden: 800 hours.

Number of Respondents: 21.

The consumer information collected will be used on the agency's www.safercar.gov Web site, in the “Purchasing with Safety in Mind: What to look for when buying a new vehicle” and “Buying a Safer Car for Child Passengers” brochures, in other consumer publications, as well as for internal agency analyses and response to consumer inquiries.

Comments are invited on: (1) Whether the existing collection of information is still necessary for the proper performance of the functions of the Department, including whether the information will have practical utility, (2) the accuracy of the Department's estimate of the burden of the existing information collection, (3) ways to enhance the quality, utility, and clarity of the information to be collected, and (4) ways to minimize the burden of the collection of information on respondents, including the use of automated collection techniques or other forms of information technology.

Public Participation

How do I prepare and submit comments?

Your comments must be written and in English. To ensure that your comments are filed correctly in the docket, please include the docket number of this document in your comments.

Your comments must not be more than 15 pages long (49 CFR 553.21). NHTSA established this limit to encourage you to write your primary comments in a concise fashion. However, you may attach necessary additional documents to your comments. There is no limit on the length of the attachments.

If you are submitting comments electronically as a PDF (Adobe) file, NHTSA asks that the documents submitted be scanned using an Optical Character Recognition (OCR) process, thus allowing the agency to search and copy certain portions of your submissions. OCR is the process of converting an image of text, such as a scanned paper document or electronic fax file, into computer-editable text.

Please note that pursuant to the Data Quality Act, in order for substantive data to be relied upon and used by the agency, it must meet the information quality standards set forth in the OMB and DOT Data Quality Act guidelines. Accordingly, we encourage you to consult the guidelines in preparing your comments. OMB's guidelines may be accessed at: http://www.whitehouse.gov/omb/fedreg/reproducible.html. DOT's guidelines may be accessed at: http://dmses.dot.gov/submit/DataQualityGuidelines.pdf.

How can I be sure that my comments were received?

If you submit your comments by mail and wish Docket Management to notify you upon its receipt of your comments, you may enclose a self-addressed, stamped postcard in the envelope containing your comments. Upon receiving your comments, Docket Management will return the postcard by mail.

How do I submit confidential business information?

If you wish to submit any information under a claim of confidentiality, you should submit three copies of your complete submission, including the information you claim to be confidential business information, to the Office of the Chief Counsel, NHTSA, at the address given above under FOR FURTHER INFORMATION CONTACT. When you send a comment containing information claimed to be confidential business information, you should include a cover letter setting forth the information specified in our confidential business information regulation. (49 CFR part 512).

In addition, you may submit a copy (two copies if submitting by mail or hand delivery), from which you have deleted the claimed confidential business information, to the docket by one of the methods given above under ADDRESSES.

Will the agency consider late comments?

NHTSA will consider all comments received before the close of business on the comment closing date indicated above under DATES. To the extent possible, the agency will also consider comments received after that date.

How can I read the comments submitted by other people?

You may read the materials placed in the Docket for this document (e.g., the comments submitted in response to this document by other interested persons) at any time by going to http://www.regulations.gov. Follow the online instructions for accessing the dockets. You may also read the materials at the Docket Management Facility by going to the street address given above under ADDRESSES. The Docket Management Facility is open between 9 a.m. and 5 p.m. Eastern Time, Monday through Friday, except Federal holidays.

Authority: 44 U.S.C. 3506(c); delegation of authority at 49 CFR 1.50.

Issued on: March 8, 2016.
Raymond R. Posten,
Associate Administrator for Rulemaking.

[FR Doc. 2016-05768 Filed 3-14-16; 8:45 am]

BILLING CODE 4910-59-P